DEPARTMENT OF HOUSING AND URBAN DEVELOPMENT

[Docket No. FR-6382-N-01A]

Federal Housing Administration (FHA): Home Equity Conversion Mortgage (HECM) HECM for Purchase-Acceptable Monetary Investment Funding Sources and Interested Party Contributions; Extension of Comment Period and Correction

AGENCY: Office of the Assistant Secretary for Policy Development and Research, U.S. Department of Housing and Urban Development (HUD).

ACTION: Notice; extension of comment period; correction.

SUMMARY: The Department of the Housing and Urban Development (HUD) published a notice in the Federal Register of October 24, 2023, to inform members of the public and affected program participants of changes to the Federal Housing Administration's (FHA) Home Equity Conversion Mortgage (HECM) for Purchase program that HUD intends to make in a future update to HUD's Single Family Housing Policy Handbook. The notice provided an opportunity for public comment but did not include the necessary language to allow for submission of comment in the Federal Register. This notice corrects this error and extends the public comment period to allow thirty days to submit comments through the Federal Register.

DATES: The public comment period for the notice published in the Federal Register on October 24, 2023 (88 FR 73040) is extended from November 24, 2023 to December 14, 2023.

FOR FURTHER INFORMATION CONTACT: Mary Jo Sullivan, Acting Director, Office of Single Family Program Development, Office of Housing, Department of Housing and Urban Development, 451 7th Street SW, Room 9266, Washington, DC 20410-9000, telephone number 202-402-2378 (this is not a toll-free number); email address sffeedback@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

Correction

In the Federal Register of October 24, 2023, in FR Doc 2023-23429, on page 73040, in the third column, the following corrections are made:

1. On page 73040, in the third column, in the Dates caption, revise the DATES section to read as follows:

DATES: Comment Due Date: December 14, 2023.

2. On page 73040, in the third column, after the dates section, add a section to read as follows:

ADDRESSES: HUD invites interested persons to submit comments to the Office of the General Counsel, Regulations Division, Department of Housing and Urban Development, 451 7th Street SW, Room 10276, Washington, DC 20410-0500. Communications should refer to the above docket number and title and should contain the information specified in the “Request for Comments” section. There are two methods for submitting public comments.

1. Electronic Submission of Comments. Comments may also be submitted electronically through the Federal eRulemaking Portal at www.regulations.gov. HUD strongly encourages commenters to submit comments electronically. Electronic submission of comments allows the commenter maximum time to prepare and submit a comment, ensures timely receipt by HUD, and enables HUD to make comments immediately available to the public. Comments submitted electronically through the website can be viewed by other commenters and interested members of the public. Commenters should follow instructions provided on that site to submit comments electronically.

2. Submission of Comments by Mail. Comments may be submitted by mail to the Regulations Division, Office of General Counsel, Department of Housing and Urban Development, 451 7th Street SW, Room 10276, Washington, DC 20410-0500. Due to security measures at all Federal agencies, however, submission of comments by mail often results in delayed delivery. To ensure timely receipt, HUD recommends that comments be mailed at least two weeks in advance of the public comment deadline.

Aaron Santa Anna,
Associate General Counsel, Office of Legislation and Regulations.

[FR Doc. 2023-24985 Filed 11-13-23; 8:45 am]

BILLING CODE 4210-67-P